DEPARTMENT OF THE INTERIOR

National Park Service

[NPS-WASO-NAGPRA-NPS0027383; PPWOCRADN0-PCU00RP14.R50000]

Notice of Inventory Completion: The University of Alabama Museums, Tuscaloosa, AL; Correction

AGENCY: National Park Service, Interior.

ACTION: Notice; correction.

SUMMARY: The University of Alabama Museums has corrected an inventory of human remains and associated funerary objects in a Notice of Inventory Completion published in the Federal Register on June 4, 2012. This notice corrects the minimum number of individuals and the number of associated funerary objects. Lineal descendants or representatives of any Indian Tribe or Native Hawaiian organization not identified in this notice that wish to request transfer of control of these human remains and associated funerary objects should submit a written request to the University of Alabama Museums. If no additional requestors come forward, transfer of control of the human remains and associated objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the University of Alabama Museums at the address in this notice by April 29, 2019.

ADDRESSES: Dr. William Bomar, Executive Director, University of Alabama Museums, 121 Smith Hall, Tuscaloosa, AL 35487, telephone (205) 348-7550, email bbomar@ua.edu.

SUPPLEMENTARY INFORMATION: Notice is here given in accordance with the Native American Graves Protection and Repatriation Act (NAGPRA), 25 U.S.C. 3003, of the correction of an inventory of human remains and associated funerary objects under the control of the University of Alabama Museums, Tuscaloosa, AL. The human remains and associated funerary objects were removed from sites 1Ce73 and 1Ce171 in Cherokee County, AL, and site 1Sc40 in St. Clair County, AL.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

This notice corrects the minimum number of individuals and the number of associated funerary objects in a Notice of Inventory Completion published in the Federal Register (77 FR 32986-32989, June 4, 2012). The correction is being made because continuing re-inventory and repacking of existing collections following the initial notice have resulted in the discovery of additional human remains and associated funerary objects. Transfer of control of the cultural items in this correction notice has not occurred.

Correction

In the Federal Register (77 FR 32987, June 4, 2012), column 3, paragraph 2, sentence 7 is corrected by substituting the following sentence:

The 108 associated funerary objects documented include one lot of brass arm bands, one lot of brass beads, 19 brass bells, one lot of more than 40 brass bracelets, one lot of brass collars, one lot of about 27 brass cones, three brass discs, one brass spoon, one brass sword hilt and handle, one brass wrist band, four brass animal cutouts, six fragments of sheet brass, one chert abrader, eight chert bifaces, one chert flake, two chert hammerstones, 15 chert projectile points, one chert scraper, one fragment of fabric with brass beads, one lot of about 27,000 glass beads, one glass biface, one unidentified gorget, one ground hematite, seven gun flints, one iron ax, one iron buckle, two iron harpoons, two iron hoes, six iron knives, three iron nails, one iron pin, two iron scissors, two iron fragments, one lead bead, one lot of ochre, one lot of pottery vessels, one quartzite anvil stone, one lot of silver buttons, two steatite pipes, and one trade pipe.

In the Federal Register (77 FR 32987, June 4, 2012), column 3, paragraph 2, sentence 11 is corrected by substituting the following sentence:

Of the total collection, 99 associated funerary objects have been located and are available for repatriation.

In the Federal Register (77 FR 32988, June 4, 2012), column 1, paragraph 2, sentence 1 is corrected by substituting the following sentence:

In 1958, human remains representing, at minimum, 13 individuals were removed from the Bradford Ferry site (1Ce73), in Cherokee County, AL.

In the Federal Register (77 FR 32988, June 4, 2012), column 1, paragraph 2, sentence 2 is corrected by substituting the following sentence:

The remains were removed from nine known burials and four other locations (HRID 4453-4462, 4495-4496, and 4462).

In the Federal Register (77 FR 32988, June 4, 2012), column 1, paragraph 2, sentence 7 is corrected by substituting the following sentence:

The 15 associated funerary objects documented as having been removed from the nine burials, plus two additional objects not listed as funerary objects in the original catalog, are one boat stone, three brass disks, one brass ear plug, one lot of brass and glass beads, one lot of glass beads, two iron objects (possible knife and breech plate), two chert projectile points, one lot of chert projectile points, one leather fragment, one Guntersville point, and one lot of ocher.

In the Federal Register (77 FR 32988, June 4, 2012), column 1, paragraph 2, sentence 10 is corrected by substituting the following sentence:

Of the total collection, 16 associated funerary objects have been located and are available for repatriation.

In the Federal Register (77 FR 32988, June 4, 2012), column 2, paragraph 1, sentence 1 is corrected by substituting the following sentence:

In 1959, human remains representing, at minimum, 11 individuals (HRID 4463, 4493-4494, 4555-4556, 4559, 4646.1-2, 4647, 4649, and 4652) were removed from the Seven Springs site, (1Ce101), in Cherokee County, AL.

In the Federal Register (77 FR 32988, June 4, 2012), column 2, paragraph 1, sentence 6 is corrected by substituting the following sentence:

The 47 associated funerary objects documented are one stone bead, one stone projectile point, one unidentified projectile point, six pottery sherds, one bone awl, one turtle shell, three brass disks, one lot glass trade beads, four rolled tubular brass beads, one fragment red ocher, 22 bone tools, one copper disc bead, one shell disc bead, one Plain Shell bowl, and two brass cones.

In the Federal Register (77 FR 32988, June 4, 2012), column 2, paragraph 1, sentence 9 is corrected by substituting the following sentence:

Of the total collection, 45 associated funerary objects have been located and are available for repatriation.

In the Federal Register (77 FR 32989, June 4, 2012), column 1, paragraph 3, sentence 1 is corrected by substituting the following sentence:

Pursuant to 25 U.S.C. 3001(9), the human remains described in this notice represent the physical remains of 65 individuals of Native American ancestry.

In the Federal Register (77 FR 32989, June 4, 2012), column 1, paragraph 3, sentence 2 is corrected by substituting the following sentence:

Pursuant to 25 U.S.C. 3001(3)(A), the 206 objects described above that are accounted for in the collections are reasonably believed to have been placed with or near individual human remains at the time of death or later as part of the death rite or ceremony.

Additional Requestors and Disposition

Lineal descendants or representatives of any Indian Tribe or Native Hawaiian organization not identified in this notice that wish to request transfer of control of these human remains and associated funerary objects should submit a written request with information in support of the request to Dr. William Bomar, Executive Director, University of Alabama Museums, 121 Smith Hall, Tuscaloosa, AL 35487, telephone (205) 348-7550, email bbomar@ua.edu, by April 29, 2019. After that date, if no additional requestors have come forward, transfer of control of the human remains and associated funerary objects to the Alabama-Coushatta Tribe of Texas (previously listed as the Alabama-Coushatta Tribes of Texas); Alabama-Quassarte Tribal Town, Oklahoma; Miccosukee Tribe of Indians of Florida; Poarch Band of Creeks (previously listed as the Poarch Band of Creek Indians of Alabama); Seminole Tribe of Florida (previously listed as the Seminole Tribe of Florida (Dania, Big Cypress, Brighton, Hollywood & Tampa Reservations)); The Muscogee (Creek) Nation; The Seminole Nation of Oklahoma; and the Thlopthlocco Tribal Town, Oklahoma, hereafter referred to as “The Tribes” may proceed.

The University of Alabama Museums is responsible for notifying The Tribes and the Cherokee Nation; Eastern Band of Cherokee Indians; Mississippi Band of Choctaw Indians; The Chickasaw Nation; The Choctaw Nation of Oklahoma; and the United Keetoowah Band of Cherokee Indians in Oklahoma that this correction notice has been published.

Dated: February 25, 2019.
Melanie O'Brien,
Manager, National NAGPRA Program.

[FR Doc. 2019-05994 Filed 3-27-19; 8:45 am]

BILLING CODE 4312-52-P